FEDERAL COMMUNICATIONS COMMISSION

[OMB 3060-1203]

Information Collection Being Reviewed by the Federal Communications Commission

AGENCY: Federal Communications Commission.

ACTION: Notice and request for comments.

SUMMARY: The Federal Communications Commission (FCC), as part of its continuing effort to reduce paperwork burdens, invites the general public and other Federal agencies to take this opportunity to comment on the following information collection, as required by the Paperwork Reduction Act (PRA) of 1995. Comments are requested concerning (a) whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology; and (e) ways to further reduce the information collection burden on small business concerns with fewer than 25 employees.

The FCC may not conduct or sponsor a collection of information unless it displays a currently valid control number. No person shall be subject to any penalty for failing to comply with a collection of information subject to the PRA that does not display a valid Office of Management and Budget (OMB) control number.

DATES: Written PRA comments should be submitted on or before June 14, 2016. If you anticipate that you will be submitting comments, but find it difficult to do so within the period of time allowed by this notice, you should advise the contact listed below as soon as possible.

ADDRESSES: Direct all PRA comments to the Federal Communications Commission via email to PRA@fcc.gov and Cathy.Williams@fcc.gov.

FOR FURTHER INFORMATION CONTACT: For additional information about the information collection, contact Cathy Williams at (202) 418-2918.

SUPPLEMENTARY INFORMATION: OMB Control Number: 3060-1203.

Title: Section 79.107—User Interfaces Provided by Digital Apparatus; Section 79.108—Video Programming Guides and Menus Provided by Navigation Devices; Section 79.110—Complaint Procedures for User Interfaces, Menus and Guides, and Activating Accessibility Features on Digital Apparatus and Navigation Devices.

Form Number: N/A.

Type of Review: Revision of a currently approved collection.

Respondents: Business or other for-profit entities; individuals or households; not-for-profit institutions; and state, local, or tribal Governments.

Number of Respondents and Responses: 4,245 respondents; 517,052 responses.

Estimated Time per Response: 0.0167 hours to 10 hours.

Frequency of Response: On occasion reporting requirement; Third party disclosure requirement; Recordkeeping requirement.

Obligation to Respond: Voluntary. The statutory authority for this information collection is contained in the Twenty-First Century Communications and Video Accessibility Act of 2010, Public Law 111-260, 124 Stat. 2751, and Sections 4(i), 4(j), 303(r), 303(u), 303(aa), 303(bb), and 716(g) of the Communications Act of 1934, as amended, 47 U.S.C. 154(i), 154(j), 303(r), 303(u), 303(aa), 303(bb), and 617(g).

Total Annual Burden: 24,153 hours.

Total Annual Cost: $70,500.

Nature and Extent of Confidentiality: Confidentiality is an issue to the extent that individuals and households provide personally identifiable information, which is covered under the FCC's updated system of records notice (SORN), FCC/CGB-1, “Informal Complaints and Inquiries,” which became effective on January 25, 2010. The Commission believes that it provides sufficient safeguards to protect the privacy of individuals who file complaints under 47 CFR 79.110.

Privacy Impact Assessment: The Privacy Impact Assessment (PIA) for Informal Complaints and Inquiries was completed on June 28, 2007. It may be reviewed at http://www.fcc.gov/omd/privacyact/Privacy-Impact-Assessment.html. The Commission is in the process of updating the PIA to incorporate various revisions to it as a result of revisions to the SORN.

Needs and Uses: On November 20, 2015, in document FCC 15-156, the Commission released a Second Report and Order, Order on Reconsideration, and Further Notice of Proposed Rulemaking, MB Docket No. 12-108, FCC 15-156, adopting additional rules implementing Sections 204 and 205 of the Twenty-First Century Communications and Video Accessibility Act of 2010 (CVAA) related to accessible user interfaces and video programming guides and menus. These rules are codified at 47 CFR 79.107 and 79.108. First, the Second Report and Order implements Section 204's requirement that both the “appropriate built-in apparatus functions” and the “on-screen text menus or other visual indicators built in to the digital apparatus” to access such functions be “usable by individuals who are blind or visually impaired” by relying on the existing definition of “usable” in Section 6.3(l) of the Commission's rules. The 6.3(l) definition of “usable” requires that “individuals with disabilities have access to the full functionality and documentation for the product, including instructions, product information (including accessible feature information), documentation, bills and technical support which is provided to individuals without disabilities.” In addition, the Second Report and Order adopts information, documentation, and training requirements comparable to those in Section 6.11 of the Commission's rules for entities covered by both Section 204 and Section 205 of the CVAA. The Second Report and Order also adopts consumer notification requirements for equipment manufacturers of digital apparatus and navigation devices that will require manufacturers to publicize the availability of accessible devices on manufacturer Web sites that must be accessible to those with disabilities. The Second Report and Order requires MVPDs, as well as manufacturers, to ensure that the contact office or person listed on their Web site is able to answer both general and specific questions about the availability of accessible equipment, including, if necessary, providing information to consumers or directing consumers to a place where they can locate information about how to activate and use accessibility features.

The following rule sections and other requirements contain new and revised information collection requirements for which the Commission is seeking approval from the Office of Management and Budget (OMB):

(1) Usability requirements for manufacturers of digital apparatus.

The Second Report and Order adopts usability requirements for digital apparatus covered by 47 CFR 79.107. A digital apparatus manufacturer must make functions that are used for the reception, play back, or display of video programming, as well as on-screen text menus or other visual indicators used to access these functions, usable to individuals who are blind or visually impaired. Pursuant to 47 CFR 79.107(a)(5), the term “usable” means that individuals with disabilities have access to information and documentation on the full functionalities of digital apparatus, including instructions, product information (including accessible feature information), documentation, bills, and technical support which are provided to individuals without disabilities.

(2) Information, documentation, and training requirements for manufacturers of digital apparatus.

Pursuant to 47 CFR 79.107(d), manufacturers of digital apparatus must ensure access to information and documentation provided to customers, including user guides, bills, installation guides for end-user installable devices, and product support communications, regarding both the product in general and the accessibility features of the product. Manufacturers of digital apparatus must include the contact method for obtaining this information and documentation in general product information. Manufacturers should take such other steps as necessary including providing a description of the accessibility and compatibility features of the product and end-user product documentation upon request in alternate formats or alternate modes at no additional charge; and ensuring usable customer support and technical support in the call centers and service centers which support their products at no additional charge. In developing training programs, manufacturers of digital apparatus must consider the following topics: (i) Accessibility requirements of individuals with disabilities; (ii) means of communicating with individuals with disabilities; (iii) commonly used adaptive technology used with the manufacturer's products; (iv) designing for accessibility; and (v) solutions for accessibility and compatibility.

(3) Information, documentation, and training requirements for covered MVPDs and manufacturers of navigation devices.

Pursuant to 47 CFR 79.108(f), covered MVPDs and manufacturers of navigation devices must ensure access to information and documentation provided to customers, including user guides, bills, installation guides for end-user installable devices, and product support communications, regarding both the product in general and the accessibility features of the product. MVPDs and manufacturers of navigation devices must include the contact method for obtaining this information and documentation in general product information. MVPDs and manufacturers should take such other steps as necessary including providing a description of the accessibility and compatibility features of the product and end-user product documentation upon request in alternate formats or alternate modes at no additional charge; and ensuring usable customer support and technical support in the call centers and service centers which support their products at no additional charge. In developing training programs, MVPDs and manufacturers of navigation devices must consider the following topics: (i) Accessibility requirements of individuals with disabilities; (ii) means of communicating with individuals with disabilities; (iii) commonly used adaptive technology used with the manufacturer's products; (iv) designing for accessibility; and (v) solutions for accessibility and compatibility. If a consumer with a disability requests an accessible navigation device, this also constitutes a request for a description of the accessibility features of the device and end-user product documentation in accessible formats.

(4) Notifications by covered manufacturers regarding the availability of accessible digital apparatus. Pursuant to 47 CFR 79.107(e), manufacturers of digital apparatus must provide notice on their official Web sites about the availability of accessible devices. Manufacturers must prominently display information about accessible devices and solutions on their Web sites in a way that makes such information available to all consumers and in a format that is accessible to people with disabilities. The notice for digital apparatus must publicize the availability of accessible devices and the specific person, office or entity who can answer consumer questions about which products contain the required accessibility features. The contact office or person listed on the Web site must be able to answer both general and specific questions about the availability of accessible equipment, including, if necessary, providing information to consumers or directing consumers to a place where they can locate information about how to activate and use accessibility features.

(5) Notifications by covered manufacturers regarding the availability of accessible navigation devices.

Pursuant to 47 CFR 79.108(d)(2), manufacturers of navigation devices must provide notice on their official Web sites about the availability of accessible devices. Manufacturers must prominently display information about accessible devices and solutions on their Web sites in a way that makes such information available to all consumers and in a format that is accessible to people with disabilities. The notice for navigation devices must publicize the availability of accessible devices and separate solutions and explain the means for making requests for accessible equipment and the specific person, office, or entity to whom such requests are to be made. The contact office or person listed on the Web site must be able to answer both general and specific questions about the availability of accessible equipment, including, if necessary, providing information to consumers or directing consumers to a place where they can locate information about how to activate and use accessibility features.

Federal Communications Commission.
Marlene H. Dortch,
Secretary, Office of the Secretary.

[FR Doc. 2016-08675 Filed 4-14-16; 8:45 am]

BILLING CODE 6712-01-P